DEPARTMENT OF ENERGY

Federal Energy Regulatory Commission

[Docket No. IC01-556-001, FERC Form 556]

Information Collection Submitted for Review and Request for Comments

March 30, 2001.

AGENCY: Federal Energy Regulatory Commission.

ACTION: Notice of submission for review by the Office of Management and Budget (OMB) and request for comments.

SUMMARY: The Federal Energy Regulatory Commission (Commission) has submitted the energy information collection listed in this notice to the Office of Management and Budget (OMB) for review under provisions of section 3507 of the Paperwork Reduction Act of 1995 (Pub. L. No. 104-13). Any interested person may file comments on the collection of information directly with OMB and should address a copy of those comments to the Commission as explained below. The Commission received no comments in response to an earlier Federal Register notice of January 24, 2001 (66 FR 7635). The Commission has noted this fact in its submission to OMB.

DATES: Comments regarding this collection of information are best assured of having their full effect if received on or before May 7, 2001.

ADDRESSES: Address comments to Office of Management and Budget, Office of Information and Regulatory Affairs, Attention: Federal Energy Regulatory Commission, Desk Officer, 725 17th Street, NW., Washington, DC 20503. A copy of the comments should also be sent to Federal Energy Regulatory Commission, Office of the Chief Information Officer, Attention: Mr. Michael Miller, 888 First Street NE., Washington, DC 20426.

FOR FURTHER INFORMATION CONTACT: Michael Miller may be reached by telephone at (202) 208-1415, by fax at (202) 273-0873, and by e-mail: mike.miller@ferc.fed.us.

SUPPLEMENTARY INFORMATION:

Description

The energy information collection submitted to OMB for review contains:

1. Collection of Information: FERC Form 556 “Congeneration and Small Power Production”.

2. Sponsor: Federal Energy Regulatory Commission.

3. Control No.: OMB No. 1902-0075. The Commission is now requesting that OMB approve a three-year extension of the current expiration date, with no changes to the existing collection. This is a mandatory information collection requirement.

4. Necessity of Collection of Information: Submission of the information is necessary to fulfill the requirements of section 3 of the Federal Power Act (FPA), and sections 201 and 210 of the Public Utility Regulatory Policies Act of 1978 (PURPA). The reporting requirements associated with FERC Form 556 are codified at 18 CFR 131.80 and Part 292 of the Commission's regulations.

FERC Form 556 requires owners and/or operators of small power production or cogeneration facilities who seek qualifying status for their facilities, to file the information requested in Form 556 either as an application to the Commission for certification as a qualifying facility (QF) or to use Form 556 as a notice of self certification.

A primary objective of PURPA is conservation of energy through the efficient use of resources in the generation of electric power. One means of achieving this objective is to encourage electric power production by cogeneration facilities which make use of reject heat associated with commercial and industrial processes, and by small power production facilities which use waste and renewable resources as fuel. PURPA, through the establishment of various regulatory benefits, encourages the development of small power production facilities which meet certain technical and corporate criteria. PURPA benefits afforded QFs include exemption from certain corporate, accounting, reporting and rate regulation under the Public Utility Holding Company Act of 1935 (PUHCA), certain state laws, and in certain instances, regulation under the FPA. Additionally, other benefits afforded to QFs are in the form of requirements for electric utilities to: (1) Make avoided cost information and system capacity needs available to the public; (2) purchase energy and capacity from QFs at the utility's avoided cost of power (ie. the cost to the purchasing utility to generate the power itself or as the cost to purchase it from another source; (3) sell backup, maintenance and other power services to QFs at rates based on the cost of rendering the services; (4) provide certain interconnection and transmission services priced on a nondiscriminatory basis; and (5) operate in “parallel” with interconnected QFs so that they may be electronically synchronized with electric utility grids. The information submitted enables the Commission to carry out its responsibilities in implementing the statutory provisions of both the EPA and PURPA by determining whether a facility meets the necessary requirements and is entitled to various PURPA benefits.

Respondent Description: The respondent universe currently comprises on average, 100 entities subject to the Commission's jurisdiction.

6. Estimated Burden: 400 total burden hours, 100 respondents, 1 response annually, 4 hours per response (average).

7. Estimated Cost Burden to Respondents: 400 hours÷2,080 hours per year × $115,357 per year = $22,184 average cost per respondent $222.

Statutory Authority: Sections 201 and 210 of the Public Utility Regulatory Policies Act of 1978 (PURPA) (16 U.S.C. 796 as amended and 16 U.S.C. 824a-3) and sections 3 of the Federal Power Act (16 U.S.C. 796).

David P. Boergers,
Secretary.

[FR Doc. 01-8377 Filed 4-4-01; 8:45 am]

BILLING CODE 6717-01-M